DEPARTMENT OF THE INTERIOR

Bureau of Land Management

[NV-058-06-5865-DT]

Notice of Availability of Record of Decision for the Sloan Canyon National Conservation Area Resource Management Plan (RMP) and Final Environmental Impact Statement (FEIS), Nevada

AGENCY: Bureau of Land Management, Interior.

Cooperating Agencies: Nevada Department of Wildlife, Nevada State Historic Preservation Office, Clark County Department of Comprehensive Planning, City of Henderson, City of Boulder City, Las Vegas Paiute Tribe, Paiute Indian Tribe of Utah, Fort Mojave Indian Tribe.

ACTION: Notice of Availability, Record of Decision.

SUMMARY: In accordance with the National Environmental Policy Act (NEPA), the Federal Land Policy and Management Act (FLPMA), Bureau of Land Management (BLM) policies, and the Clark County Conservation of Public Land and Natural Resources Act of 2002 [Public Law 107-282], the BLM announces the availability of the Record of Decision (ROD) for the Sloan Canyon National Conservation Area (NCA) RMP located in Clark County, Nevada. The Nevada State Director has approved the RMP ROD, which becomes effective immediately.

ADDRESSES: The RMP ROD and other associated documents or background information may be viewed and downloaded in .PDF format at http://www.nv.blm.gov/vegas/sloan. Copies of the Sloan Canyon NCA RMP ROD are available upon request from the Las Vegas Field Office, Bureau of Land Management, 4701 North Torrey Pines Drive, Las Vegas, NV 89130-2301. Reference copies are available for review during regular business hours at the following locations: BLM Nevada State Office, 1340 Financial Blvd, Reno, NV 89502; Paseo Verde Library, 280 S. Green Valley Parkway, Henderson, NV 89012; Boulder City Library, 701 Adams Blvd, Boulder City, NV 89005; North Las Vegas Library, 2300 Civic Center Dr., North Las Vegas, NV 89130; and Summerlin Library, 1771 Inner Circle Drive, Las Vegas, NV 89134.

FOR FURTHER INFORMATION CONTACT: For further information visit the Web site http://www.nv.blm.gov/vegas/sloan or contact: Manager, Sloan Canyon NCA, BLM Las Vegas Field Office, 4701 North Torrey Pines Drive, Las Vegas, NV 89130-2301; Telephone (702) 515-5000; and E-mail Sloan_planning@nv.blm.gov.

SUPPLEMENTARY INFORMATION: In November 2002 Congress designated the Sloan Canyon NCA to preserve and protect a portion of southern Nevada's Mojave Desert as a permanent asset for future generations. The Clark County Conservation of Public Land and Natural Resources Act of 2002 required the BLM to develop a plan for the appropriate use and management of the Sloan Canyon NCA and the North McCullough Wilderness.

The RMP ROD was developed with broad public and stakeholder participation through a 3-year collaborative planning process. This RMP ROD addresses management on approximately 48,000 acres of public land within the NCA, including the 14,000 acre North McCullough Wilderness. The RMP ROD contains both land use planning decisions and implementing decisions to provide planning structure to facilitate the management of the Sloan Canyon NCA. Major resources and activities addressed in the RMP ROD include: recreation; the North McCullough Wilderness; cultural resources; interpretation; facilities; lands and realty; transportation; vegetation management; and wildlife management.

The approved RMP is essentially the same as Alternative C in the Proposed RMP/Final EIS, published in October 2005. BLM received four protests to the Proposed RMP/EIS. After careful consideration of all points raised in those protests, the BLM Director concluded that the responsible planning team and decision-makers followed all applicable laws, regulations, policies, and pertinent resource considerations in developing the proposed plan. No inconsistencies with State or local plans, policies or programs were identified during the Governor's consistency review of the Proposed RMP/Final EIS. As a result, only minor editorial modifications were made in preparing the RMP/ROD.

Dated: June 28, 2006.
Juan Palma,
Field Manager, Las Vegas Field Office.

[FR Doc. E6-16938 Filed 10-12-06; 8:45 am]

BILLING CODE 4310-22-P